DEPARTMENT OF ENERGY

Federal Energy Regulatory Commission

Combined Notice of Filings

Take notice that the Commission has received the following Natural Gas Pipeline Rate and Refund Report filings:

Docket Number: PR20-46-001.

Applicants: AMP Intrastate Pipeline, LLC.

Description: Tariff filing per 284.123(b),(e)/: AMP Intrastate Amended SOC Filing to be effective 2/24/2020.

Filed Date: 4/24/2020.

Accession Number: 202004245069.

Comments/Protests Due: 5 p.m. ET 5/8/2020.

Docket Number: PR20-48-001.

Applicants: Bridgeline Holdings, L.P.

Description: Tariff filing per 284.123(b)(2),(: Amendment to 48 to be effective 4/1/2020.

Filed Date: 4/24/2020.

Accession Number: 202004245083.

Comments/Protests Due: 5 p.m. ET 5/8/2020.

Docket Numbers: RP18-923-008.

Applicants: Enable Mississippi River Transmission, LLC.

Description: Compliance filing Implement Settlement Tariff Sheets in Dockets RP18-923, RP20-131 and RP20-212 to be effective 1/1/2019.

Filed Date: 4/28/20.

Accession Number: 20200428-5139.

Comments Due: 5 p.m. ET 5/11/20.

Docket Numbers: RP20-809-000.

Applicants: ANR Pipeline Company.

Description: Compliance filing 2020 Operational Purchases and Sales Report.

Filed Date: 4/28/20.

Accession Number: 20200428-5001.

Comments Due: 5 p.m. ET 5/11/20.

Docket Numbers: RP20-810-000.

Applicants: Northern Border Pipeline Company.

Description: Compliance filing 2020 Operational Purchases and Sales Report.

Filed Date: 4/28/20.

Accession Number: 20200428-5070.

Comments Due: 5 p.m. ET 5/11/20.

Docket Numbers: RP20-811-000.

Applicants: El Paso Natural Gas Company, L.L.C.

Description: § 4(d) Rate Filing: Negotiated Rate Update Filing (Conoco May 20) to be effective 5/1/2020.

Filed Date: 4/28/20.

Accession Number: 20200428-5089.

Comments Due: 5 p.m. ET 5/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2020.
Nathaniel J. Davis, Sr.,
Deputy Secretary.

[FR Doc. 2020-09579 Filed 5-4-20; 8:45 am]

BILLING CODE 6717-01-P